DEPARTMENT OF HEALTH AND HUMAN SERVICES

Health Resources and Services Administration

”Low Income Levels” Used for Various Health Professions and Nursing Programs Included in Titles III, VII and VIII of the Public Health Service Act

AGENCY: Health Resources and Services Administration, HHS.

ACTION: Notice.

SUMMARY: The Health Resources and Services Administration (HRSA) is updating income levels used to identify a “low income family” for the purpose of determining eligibility for programs that provide health professions and nursing training for individuals from disadvantaged backgrounds. These various programs are included in Titles III, VII and VIII of the Public Health Service (PHS) Act.

The Department periodically publishes in the Federal Register low-income levels used to determine eligibility for grants and cooperative agreements to institutions providing training for (1) disadvantaged individuals, (2) individuals from disadvantaged backgrounds, or (3) individuals from “low-income” families.

SUPPLEMENTARY INFORMATION: The various health professions and nursing grant and cooperative agreement programs that use the low income levels to determine whether an individual is from an economically disadvantaged background in making eligibility and funding determinations generally make awards to: Accredited schools of medicine, osteopathic medicine, public health, dentistry, veterinary medicine, optometry, pharmacy, allied health podiatric medicine, nursing, chiropractic, public or private nonprofit schools which offer graduate programs in behavioral health and mental health practice, and other public or private nonprofit health or education entities to assist the disadvantaged to enter and graduate from health professions and nursing schools. Some programs provide for the repayment of health professions or nursing education loans for disadvantaged students.

Low-Income Levels

The Secretary defines a “low income family” for programs included in Titles III, VII and VIII of the Public Health Service Act as a family having an annual income that does not exceed 200 percent of the Department's poverty guidelines. A “family” is a group of two or more individuals related by birth, marriage, or adoption who live together or an individual who is not living with any relatives. Most HRSA programs use the income of the student's parents to compute low income status. However, a few programs, depending upon the legislative intent of the program, programmatic purpose of the low income level, as well as the age and circumstances of the average participant, will use the student's family income, as long as he or she is not listed as a dependent upon the parents' tax form. Each program will announce the rationale and choice of methodology for determining low income levels in their program guidance. The Department's poverty guidelines are based on poverty thresholds published by the U.S. Bureau of the Census, adjusted annually for changes in the Consumer Price Index.

The Secretary annually adjusts the low income levels based on the Department's poverty guidelines and makes them available to persons responsible for administering the applicable programs. The income figures below have been updated to reflect increases in the Consumer Price Index through December 31, 2006.

Size of parents' family* | Income level**
1 | $20,420
2 | 27,380
3 | 34,340
4 | 41,300
5 | 48,260
6 | 55,220
7 | 62,180
8 | 69,140
* Includes only dependents listed on Federal income tax forms. Some programs will use the student's family rather than his or her parents' family.
** Adjusted gross income for calendar year 2006.

Dated: May 10, 2007.
Elizabeth M. Duke,
Administrator.

[FR Doc. E7-9548 Filed 5-17-07; 8:45 am]

BILLING CODE 4165-15-P